DEPARTMENT OF TRANSPORTATION

Federal Aviation Administration

14 CFR Part 71

[Docket No. FAA-2004-16985; Airspace Docket No. 04-ACE-3]

Establishment of Class E2 Airspace; and Modification of Class E5 Airspace; Muscatine, IA

AGENCY: Federal Aviation Administration (FAA), DOT.

ACTION: Final rule.

SUMMARY: This rule establishes a Class E surface area at Muscatine, IA. It also modifies the Class E airspace area extending upward from 700 feet above the surface at Muscatine, IA by correcting discrepancies in the Muscatine Municipal Airport airport reference point.

The effect of this rule is to provide appropriate controlled Class E airspace for aircraft executing instrument approach procedures to Muscatine Municipal Airport and to segregate aircraft using instrument approach procedures in instrument conditions from aircraft operating in visual conditions.

DATES: Effective Date: 0901 UTC, June 10, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On Wednesday, February 25, 2004, the FAA proposed to amend 14 CFR part 71 to establish a Class E surface area and to modify other Class E airspace at Muscatine, IA (69 FR 8582). The proposal was to establish a Class E surface area at Muscatine, IA. It was also to modify the Muscatine, IA Class E5 airspace area and its legal description. Interested parties were invited to participate in this rulemaking proceeding by submitting written comments on the proposal to the FAA. No comments objecting to the proposal were received.

The Rule

This amendment to part 71 of the Federal Aviation Regulations (14 CFR part 71) establishes Class E airspace designated as a surface area for an airport at Muscatine, IA. Controlled airspace extending upward from the surface of the earth is needed to contain aircraft executing instrument approach procedures. Weather observations will be provided by an Automatic Weather Observing/Reporting System (AWOS) and communications would be direct with Quad City Approach Control for those times when the airspace area is in effect.

This rule also revises the Class E airspace area extending upward from 700 feet above the surface at Muscatine, IA. Airspace required for diverse departures is expanded from a 6.5 to a 6.6-mile radius of Muscatine Municipal Airport. An examination of this Class E airspace area for Muscatine, IA revealed discrepancies in the Port City Very High Frequency Omni-directional Range (VOR)/Distance Measuring Equipment (DME) radials used to define the airspace area extensions and in the descriptions of these extensions. This action corrects these discrepancies. The areas will be depicted on appropriate aeronautical charts.

Class E airspace areas designated as surface areas are published in Paragraph 6002 of FAA Order 7400.9L, Airspace Designations and Reporting Points, dated September 2, 2003, and effective September 16, 2003, which is incorporated by reference in 14 CFR 71.1. Class E airspace areas extending upward from 700 feet or more above the surface of the earth are published in Paragraph 6005 of the same Order. The Class E airspace designations listed in this document will be published subsequently in the Order.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9L, dated September 2, 2003, and effective September 16, 2003, is amended as follows:

Paragraph 6002 Class E Airspace Designated as Surface Areas.

* * * * *

ACE IA E2 Muscatine, IA

Muscatine Municipal Airport, IA

(Lat. 41°22′04″ N., long. 91°08′54″ W.)

Within a 3.9-mile radius of Muscatine Municipal Airport. This Class E airspace area is effective during specific dates and times established in advance by a Notice to Airmen. The effective date and time will thereafter be continuously published in the Airport/Facility Directory.

* * * * *

Paragraph 6005 Class E airspace areas extending upward from 700 feet or more above the surface of the earth.

* * * * *

ACE IA E5 Muscatine, IA

Muscatine Municipal Airport, IA

(Lat. 41°22′04″ N., long. 91°08′54″ W.)

Port City VOR/DME

(Lat. 41°21′59″ N., long. 91°08′58″ W.)

That airspace extending upward from 700 feet above the surface within a 6.6-mile radius of Muscatine Municipal Airport and within 2.6 miles each side of the 063° radial of the Port City VOR/DME and within 2.6 miles each side of the 233° radial of the VOR/DME extending from the 6.6-mile radius of the airport to 7 miles southwest of the VOR/DME.

* * * * *

Issued in Kansas City, MO, on March 30, 2004.
Paul J. Sheridan,
Acting Manager, Air Traffic Division, Central Region.

[FR Doc. 04-8815 Filed 4-16-04; 8:45 am]

BILLING CODE 4910-13-M